FEDERAL COMMUNICATIONS COMMISSION

[Report No. AUC-00-31-F (Auction No. 31); DA 00-942]

Auction of Licenses for the 747-762 and 777-792 MHz Bands Postponed Until September 6, 2000

AGENCY: Federal Communications Commission.

SUMMARY: This document postpones the upcoming auction of licenses in the 747-762 and 777-792 bands originally scheduled to begin June 7, 2000, in order to provide additional time for bidder preparation and planning. The auction is rescheduled to begin September 6, 2000.

DATES: Auction No. 31 will begin September 6, 2000.

FOR FURTHER INFORMATION CONTACT: Howard Davenport, Auctions Legal Branch at (202) 418-0660, or Kathy Garland, Auctions Operations at (717) 338-2888.

SUPPLEMENTARY INFORMATION: This is a summary of a Public Notice released May 2, 2000. The complete text of the public notice is available for inspection and copying during normal business hours in the FCC Reference Center (Room CY-A257), 445 12th Street, SW., Washington, DC 20554. It may also be purchased from the Commission's copy contractor, International Transcription Services, Inc. (ITS, Inc.) 1231 20th Street, NW., Washington, DC 20036, (202) 857-3800. It is also available on the Commission's web site at http://www.fcc.gov.

1. The upcoming auction of licenses in the 747-762 and 777-792 MHz band, scheduled to begin on June 7, 2000, is postponed until September 6, 2000, in order to provide additional time for bidder preparation and planning. Therefore, the FCC Form 175 application filing window for Auction No. 31 is now closed. Any applications that were in the system will be deemed ineffective and purged from the system. Applicants wishing to participate must file in compliance with the deadlines listed. The new filing window for FCC Form 175 will open on July 17, 2000. The new schedule is as follows:

Filing Deadline for FCC Form 175—August 1, 2000; 6 pm ET.

Upfront Payment Deadline—August 18, 2000; 6 pm ET.

Orders For Remote Bidding Software—August 21, 2000; 6 pm ET.

Mock Auction—August 31, 2000.

Auction Start Date—September 6, 2000.

Federal Communications Commission.
Louis J. Sigalos,
Deputy Chief, Auctions & Industry Analysis Division.

[FR Doc. 00-11971 Filed 5-11-00; 8:45 am]

BILLING CODE 6712-01-U